DEPARTMENT OF COMMERCE

National Oceanic and Atmospheric Administration

[RTID 0648-XB287]

Pacific Fishery Management Council; Public Meeting

AGENCY: National Marine Fisheries Service (NMFS), National Oceanic and Atmospheric Administration (NOAA), Commerce.

ACTION: Notice of public meeting.

SUMMARY: The Pacific Fishery Management Council's (Pacific Council) Groundfish Subcommittee of the Scientific and Statistical Committee (SSC) will hold an online meeting to review new groundfish stock assessments.

DATES: The online meeting will be held Tuesday, August 17, 2021, from 8:30 a.m. to 5 p.m., Pacific Daylight Time.

ADDRESSES: This meeting will be held online. Specific meeting information, including directions on how to join the meeting and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: John DeVore, Staff Officer, Pacific Council; telephone: (503) 820-2413.

SUPPLEMENTARY INFORMATION: The SSC's Groundfish Subcommittee will review further analyses for new assessments of copper rockfish in California south of Pt. Conception, copper rockfish in California north of Pt. Conception, quillback rockfish in California, squarespot rockfish in California, and spiny dogfish as requested by the Pacific Council at their June 2021 meeting. The Groundfish Subcommittee will also review new assessments and stock assessment review reports for lingcod, and vermilion and sunset rockfishes, as well as updated catch-only projections for canary rockfish, petrale sole, darkblotched rockfish, and arrowtooth flounder. Further, the Groundfish Subcommittee will review a catch report for yelloweye rockfish to determine the adequacy of rebuilding progress. The Groundfish Subcommittee will prepare their recommendations for SSC and Pacific Council consideration at their online meetings in September. Assessment recommendations may include endorsing these new assessments for management use or requesting further analyses to be reviewed at the late September review panel (this process is outlined in the Pacific Council's Terms of Reference for the Groundfish and Coastal Pelagic Species Stock Assessment Review Process for 2021-22).

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: July 28, 2021.
Tracey L. Thompson,
Acting Deputy Director, Office of Sustainable Fisheries, National Marine Fisheries Service.

[FR Doc. 2021-16427 Filed 7-30-21; 8:45 am]

BILLING CODE 3510-22-P